DEPARTMENT OF HEALTH AND HUMAN SERVICES

Administration for Community Living

Agency Information Collection Activities; Proposed Collection; Comment Request; Extension for a Currently Approved Collection, State Plan for Independent Living (SPIL)

AGENCY: Independent Living Administration, Administration for Community Living, HHS.

ACTION: Notice.

SUMMARY: The Administration for Community Living (ACL) is announcing that the proposed collection of information listed below has been submitted to the Office of Management and Budget (OMB) for review and clearance. Under the Paperwork Reduction Act of 1995 (the PRA), Federal agencies are required to publish notice in the Federal Register concerning each proposed collection of information, including each proposed extension of an existing collection of information, and to allow public comment in response to the notice.

DATES: Submit written comments on the collection of information by March 9, 2016.

ADDRESSES: Submit written comments on the collection of information by email to OIRA_submission@omb.eop.gov, Attn: OMB Desk Officer for ACL.

FOR FURTHER INFORMATION CONTACT: Veronica Hogan, Administration for Community Living, Washington, DC 20201. Telephone: (202) 795-7365; email: veronica.hogan@acl.hhs.gov.

SUPPLEMENTARY INFORMATION: The State Plan for Independent Living (SPIL) Public Law (105-220) for the State Independent Living (SILS) and Centers for Independent Living (CIL) program authorized by title VII, chapter 1, of the Rehabilitation Act of 1973, as Amended by the Workforce Innovation and Opportunity Act (WIOA, Pub. L. 113-128) [Rehabilitation Act]. States are required to submit an approvable SPIL in order to receive federal funding under the State Independent Living Services (SILS) and Centers for Independent Living (CIL) programs authorized by title VII, chapter 1, of the Rehabilitation Act of 1973, as amended (Pub. L. 105-220). The SPIL encompasses the activities planned by the state to achieve its specified independent living objectives and reflects the state's commitment to comply with all applicable statutory and regulatory requirements during the three years covered by the plan. Part I of the SPIL is a series of assurances, or statements of compliance, based on legal and regulatory provisions governing the SILS and CIL programs. Part II of the SPIL consists of narrative sections in which the state describes its independent living objectives, services, activities and operational details.

If the SPIL is not extended and the data collection not conducted, ACL will not be authorized to fund the IL programs and, as a result, the availability of independent living services in the states will be severely limited.

Under the PRA (44 U.S.C. 3501-3520), Federal agencies must obtain approval from the Office of Management and Budget (OMB) for each collection of information they conduct or sponsor. “Collection of information” is defined in 44 U.S.C. 3502(3) and 5 CFR 1320.3(c) and includes agency request or requirements that members of the public submit reports, keep records, or provide information to a third party. Section 3506(c)(2)(A) of the PRA (44 U.S.C. 3506(c)(2)(A)) requires Federal agencies to provide a 60-day notice in the Federal Register concerning each proposed collection of information, including each proposed extension of an existing collection of information, before submitting the collection to OMB for approval. To comply with this requirement, ACL is publishing notice of the proposed collection of information set forth in this document. With respect to the following collection of information, ACL invites comments on: (1) Whether the proposed collection of information is necessary for the proper performance of ACL's functions, including whether the information will have practical utility; (2) the accuracy of ACL's estimate of the burden of the proposed collection of information, including the validity of the methodology and assumptions used; (3) ways to enhance the quality, utility, and clarity of the information to be collected; and (4) ways to minimize the burden of the collection of information on respondents, including through the use of automated collection techniques when appropriate, and other forms of information technology.

The Independent Living Program is required by federal statute and regulation requires the collection of this information every three years. The three-year period for the next SPIL is FY 2017-2019. The SPIL provided in writing to the Administration for Community Living, Administration on Disabilities, Independent Living Administration. The five core services are: Advocacy, information and referral, independent living skills training, peer counseling, and transition services. WIOA included three prongs to the 5th core service:

• Facilitating the transition of individuals with significant disabilities from nursing homes and other institutions to home and community-based residences, with the requisite supports and services;

• Provide assistance to individuals with significant disabilities who are at risk of entering institutions so that the individuals may remain in the community, and

• Facilitate the transition of youth who are individuals with significant disabilities, who were eligible for individualized education programs under section 614(d) of the Individuals with Disabilities Act (20 U.S.C. 1414(d)), and who have completed their secondary education or otherwise left school, to postsecondary life.

ILA to track grant activities and create the annual reports, to Congress. ACL estimates the burden of this collection of information as follows: 56 SPIL respond annually which should be an average burden of 3,360 hours per State per year.

Dated: February 2, 2016.
Kathy Greenlee,
Administrator and Assistant Secretary for Aging.

[FR Doc. 2016-02348 Filed 2-5-16; 8:45 am]

BILLING CODE 4154-01-P